DEPARTMENT OF DEFENSE

Office of the Secretary

Availability of the Fiscal Year 2008 Missile Defense Agency Services Contracts Inventory

AGENCY: Missile Defense Agency (MDA), DoD.

ACTION: Notice of availability.

SUMMARY: In accordance with section 2330a of title 10 United States Code as amended by the National Defense Authorization Act for Fiscal Year 2008 (NDAA 08) section 807, the Director of the Missile Defense Agency and the Office of the Director, Defense Procurement and Acquisition Policy, Office of Strategic Sourcing (DPAP/SS) will make available to the public the first inventory of activities performed pursuant to contracts for services. The inventory will be published to the Missile Defense Agency (MDA) Web site at the following location: http://www.mda.mil/barbb/barbb.htm.

DATES: Inventory to be made publically available within 30 days after publication of this notice.

ADDRESSES: Send written comments and suggestions concerning this inventory to Pamela Bible, Procurement Analyst, MDA/DACP 7100 Defense Pentagon, Washington, DC 20307-7100.

FOR FURTHER INFORMATION CONTACT: Pamela Bible at (703) 882-6062 or e-mail Pamela.Bible@mda.mil.

Dated: October 1, 2009.
Patricia L. Toppings,
OSD Federal Register Liaison Officer, Department of Defense.

[FR Doc. E9-24508 Filed 10-9-09; 8:45 am]

BILLING CODE 5001-06-P